DEPARTMENT OF HEALTH AND HUMAN SERVICES

Centers for Disease Control and Prevention

National Vaccine Advisory Committee, Subcommittee on Future Vaccines, Subcommittee on Immunization Coverage, and Subcommittee on Vaccine Safety and Communication Meetings

In accordance with section 10(a)(2) of the Federal Advisory Committee Act (Public Law 92-463), the Centers for Disease Control and Prevention (CDC) announces the following Federal advisory committee meetings.

Name: National Vaccine Advisory Committee (NVAC).

Times and Dates: 9 a.m.-5 p.m., February 5, 2002,8:30 a.m.-1:15 p.m., February 6, 2002.

Place: Hubert H. Humphrey Building, Room 705A, 200 Independence Avenue, SW., Washington, DC 20201.

Status: Open to the public, limited only by the space available.

Notice: In the interest of security, the Department has instituted stringent procedures for entrance to the Hubert H. Humphrey Building by non-government employees. Thus, persons without a government identification card should plan to arrive at the building each day either between 8 a.m. and 8:30 a.m. or 12:30 p.m. and 1 p.m. Entrance to the meeting at other times during the day cannot be assured.

Purpose: This committee advises and makes recommendations to the Director of the National Vaccine Program on matters related to the Program responsibilities.

Matters to be discussed: Agenda items will include: A report from the National Vaccine Program Office (NVPO) and the Interagency Vaccine Workgroup; a report from the Acting Assistant Secretary for Health; a report from the Rotavirus Vaccine Workshop; Thimerasol in Vaccines—Followup; discussion of decisions in the face of uncertainty; discussions on Bioterrorism Issues, Departmental Initiatives, Smallpox Preparedness, & Anthrax Preparedness; an update on Vaccine Supply—Report from the NVAC Workgroup; Vaccine Safety and Communication Subcommittee report; Immunization Coverage Subcommittee report, Pediatric and Adolescent Immunization Standards; Future Vaccines Subcommittee report; Rotavirus Vaccine Workshop—Report; an update on Immunization Registries; a report on Polio Laboratory Containment, an update on Global Polio Eradication; reports from Advisory Commission on Childhood Vaccines/Division of Vaccine Injury Compensation, Vaccine Related Biological Products Advisory Committee/Food and Drug Administration, Advisory Committee on Immunization Practices/National Immunization Program/National Center for Infectious Diseases.

Name: Subcommittee on Future Vaccines.

Time and Date: 2 p.m.-5 p.m., February 5, 2002.

Place: Hubert H. Humphrey Building, Room 305A, 200 Independence Avenue, SW, Washington, DC 20201.

Status: Open to the public, limited only by the space available.

Purpose: This subcommittee develops policy options and guides national activities that lead to accelerated development, licensure, and the best use of new vaccines in the simplest possible immunization schedules.

Matters to be discussed: Agenda items will include a report from CDC Consultation on Partially Effective Vaccines for HIV; discussions on possible future topics including Pneumococcal Vaccine and Varicella in Immunocompromised hosts.

Name: Subcommittee on Immunization Coverage.

Time and Date: 2 p.m.-5 p.m., February 5, 2002.

Place: Hubert H. Humphrey Building, Room 705A, 200 Independence Avenue, SW, Washington, DC 20201.

Status: Open to the public, limited only by the space available.

Purpose: This subcommittee will identify and propose solutions that provide a multifaceted and holistic approach to reducing barriers that result in low immunization coverage for children.

Matters to be discussed: Agenda items will include a report on the status of the adult immunization standards and the adolescent and child immunization standards; an update on the Mandatory Immunization Guidelines Workgroup; and a report on vaccine financing issues.

Name: Subcommittee on Vaccine Safety and Communication.

Time and Date: 2 p.m.-5 p.m., February 5, 2002.

Place: Hubert H. Humphrey Building, Room 325A, 200 Independence Avenue, SW., Washington, DC 20201.

Status: Open to the public, limited only by the space available.

Purpose: This subcommittee reviews issues relevant to vaccine safety and adverse reactions to vaccines.

Matters to be Discussed: Institute of Medicine Vaccine Safety Committee final report; Selection of Vaccine Safety Hypotheses for Year 2002; discussion of a Possible Alternative Standard for Adjudication of VICP Claims for Non-Table Injuries; follow-up to the “Workshop on Vaccine Communications''.

Agenda items are subject to change as priorities dictate.

Contact Person for More Information: Gloria Sagar, Committee Management Specialist, NVPO, CDC, 4770 Burford Highway M/S K-77, Atlanta, Georgia 30341, telephone 770/488-2040.

An unavoidable administrative delay meeting the 15-day publication requirement.

The Director, Management Analysis and Services Office, has been delegated the authority to sign Federal Register notices pertaining to announcements of meetings and other committee management activities for both the Centers for Disease Control and Prevention and the Agency for Toxic Substances and Disease Registry.

Dated: January 18, 2002.
Alvin Hall,
Acting Director, Management Analysis and Services Office, Centers for Disease Control and Prevention.

[FR Doc. 02-1847 Filed 1-24-02; 8:45 am]

BILLING CODE 4163-18-P